DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

BRB Array Tools

Richard Simon (NCI)

DHHS Reference No. E-154-01/0

Licensing Contact: Dale Berkley; 301/496-7735 ext. 223; e-mail: berkleyd@od.nih.gov.

The invention is a desktop software package that integrates into Microsoft Excel as an add-in for the analysis of DNA microarray data. The software incorporates numerous statistical analysis methods tailored to the analysis of DNA microarray data, providing a robust visualization capability for translating the data into biological knowledge that is lacking in currently available packages. The software is oriented for use by biologists, but was developed by professional statisticians for this application. The invention is expected to find a wide range of applications throughout the biomedical sciences.

Real Time Interactive Volumetric Magnetic Resonance Imaging

Michael Guttman and Elliott McVeigh (NHLBI)

DHHS Reference No. E-082-01/0 filed Feb 16, 2001.

Licensing Contact: Dale Berkley; 301/496-7735 ext. 223; e-mail: berkleyd@od.nih.gov.

The invention makes possible “live” volume renderings from a Magnetic Resonance Imaging (MRI) scanner. Previously, volume renderings from MRI data could only be generated off-line, some time after the image data was collected. In one embodiment of the invention, the time between data collection and volume rendering update (the latency) is approximately one third of a second at a frame rate of approximately 10 updates per second. User interaction with the rendering, such as rotation and cut planes, are allowed during imaging. This gives a caregiver real-time three-dimensional feedback while manipulating devices within a patient's body. The invention may be of benefit to several types of image-guided interventional procedures, including cardiac catheterization, tumor removal, ablation or biopsies.

STATLAB—A Matlab ® Toolbox for Advanced Statistical Modeling and Data Analysis

Philip S. Rosenberg (NCI)

DHHS Reference No. E-217-00/0 filed Apr 05, 2001

Licensing Contact: Dale Berkley; 301/496-7735 ext. 223; e-mail: berkleyd@od.nih.gov.

The invention relates to a set of programs (a toolbox) to enhance Matlab's ® statistical capabilities by utilizing an object-oriented design that helps statistical scientists more rapidly design, build and debug sophisticated statistical applications entirely in the Matlab ® environment. This saves researchers from the time and effort required to code algorithms in low-level languages such as Fortran or C. Matlab ® is the commercially available premiere technical computing environment that is widely used by scientists and engineers to solve mathematical problems arising in diverse scientific and engineering disciplines. STATLAB is the name given by the inventor to the set of programs that make up the invention, a toolbox for advanced statistical modeling and data analysis. This toolbox offers advanced error checking, report generation and data management capabilities not found together in any other package.

Engineered Human Topoisomerase I

Gary S. Laco (NCI), Michael A. Eissenstat, and Tatiana Guerassina (NCI)

DHHS Reference No. E-052-01/0

Licensing Contact: Sally Hu; 301/496-7056 ext. 265; e-mail: hus@od.nih.gov.

This invention describes a recombinant form of human topoisomerase (top68c) that encodes human topiosomerase (top 1) minus its localization signals. This invention provides an expression and purification strategy that allows wild type and mutant forms of top68c to be over-expressed and easily purified in vitro. The expressed top68c is pure (>99%) and retains full activity with a high yield. This invention has overcome the problems of the existing production of human topiosomerase 1 in insect cells such as low yields of difficult to purify protein. Therefore, this invention makes more research opportunities possible, such as screening for inhibitors, and providing sufficient quantities of the protein to do X-ray crystallography studies of top68c complexed with substrates and inhibitors. Such research is very important for determining the mechanism of top 1 activity and for finding future therapeutics related to top1. Finally, inhibiting this enzyme has possible anti-cancer and anti-HIV usage. This invention is available for licensing through a Biological Materials License because no patent applications exist.

Glycosylation-resistant Cyanovirins and Related Conjugates, Compositions, Nucleic Acids, Vectors, Host Cells, Methods of Production and Methods of Using Nonglycosylated Cyanovirins

Michael R. Boyd (NCI)

DHHS Reference No. E-074-99/7 filed Mar 22, 2001

Licensing Contact: Sally Hu; 301/496-7056 ext. 265; e-mail: hus@od.nih.gov.

This invention has two major aspects. The first is that cyanovirin-N (CV-N) and homologous proteins and peptides potently inhibit diverse laboratory and clinical isolates of influenza viruses A and B. Since influenza A and B are the two major types of influenza virus that infect humans, an agent that has anti-influenza virus activity against both influenza A and B, like CV-N, would be particularly useful in prevention or treatment of influenza virus infection. The second aspect provides CV-N mutants called glycosylation-resistant mutants. These mutants code sequences to enable ultra large-scale recombinant production of functional cyanovirins in non-bacterial (yeast or insect) host cells or in transgenic animals or plants. Therefore, these glycosylation-resistant mutants may allow industry to produce CV-Ns on a large scale and make CV-Ns cheap enough for developing countries to benefit from this invention.

Dated: July 6, 2001.
Jack Spiegel,
Director, Division of Technology, Development and Transfer, Office of Technology Transfer, National Institutes of Health.

[FR Doc. 01-17750 Filed 7-13-01; 8:45 am]

BILLING CODE 4140-01-P